DEPARTMENT OF COMMERCE

U.S. Census Bureau

Proposed Information Collection; Comment Request; Census Coverage Measurement Final Housing Unit Followup and Final Housing Unit Followup Quality Control Operations

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before June 1, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Gia F. Donnalley, U.S. Census Bureau, 4600 Silver Hill Road, Room 4K067, Washington, DC 20233, 301-763-4370 (or via the internet at Gia.F.Donnalley@census.gov)

SUPPLEMENTARY INFORMATION:

I. Abstract

The 2010 Census Coverage Measurement (CCM) Final Housing Unit Followup and Final Housing Unit Followup Quality Control Operations will be conducted in the U.S. (excluding remote Alaska) and in Puerto Rico in select CCM sampled areas. The primary sampling unit is a block cluster, which consists of one or more geographically contiguous census blocks. As in the past, the CCM operations and activities will be conducted independent of and not influence the 2010 Census operations.

CCM will be conducted to provide estimates of both net coverage error and components of census coverage, including omissions and erroneous enumerations for housing units and persons in housing units (see Definition of Terms) in order to gather information necessary to improve future censuses. The data collection and matching methodologies for previous coverage measurement programs were designed to measure only net coverage error, which measures the net difference between omissions and erroneous enumerations.

The 2010 CCM sample is a multi-phase probability sample of housing units comprising a number of distinct processes, ranging from forming block clusters, selecting the block clusters where the CCM survey will be conducted, to eventually selecting addresses for interviewing. Two samples will be selected to measure census coverage of housing units and household population: The population sample (P Sample) and the enumeration sample (E sample). These two samples have traditionally defined the samples for dual system estimation, a statistical technique for measuring net coverage error. The P Sample is a sample of housing units and persons obtained and independently enumerated from the census for a sample of block clusters, while the E Sample is the census of housing units and enumerations in the same block clusters as the P sample.

The independent list of housing units was obtained during the CCM Independent Listing Operation, the results of which are matched to census housing units in the sample block clusters and surrounding blocks. After the CCM Independent Listing and matching operations have taken place, some cases with discrepancies between the CCM Independent Listing and the Census have been identified to receive the CCM Initial Housing Unit Followup interview. The results of the housing unit matching operations will be used to determine which CCM and Census addresses will be eligible to go to the CCM Person Interview Operation. After data collected from the CCM Person Interview is matched to person data collected by the Census, some cases with discrepancies between the CCM Person Interview and Census will be sent for another CCM interview called the CCM Person Followup Operation. A final clerical matching operation of the final census housing unit list, which contains updates since Initial Housing Operations, will be conducted. Discrepancies between the CCM housing unit and final census housing unit lists will be identified and sent to CCM Final Housing Unit Followup. A separate Federal Register Notice has already been issued for the CCM Independent Listing, CCM Initial Housing Unit Followup, CCM Person Interview, and CCM Person Followup operations.

Cases identified for Final Housing Followup will generally be cases where additional information is needed to determine housing unit status (for example, clarify if the addresses refer to a housing unit) or resolve inconsistencies observed during the matching operations between the CCM and final census addresses in the block cluster. Using a paper questionnaire tailored for the type of followup required, interviewers will contact a member (or proxy, as a last resort) of each housing unit needing followup to answer questions that might allow a resolution of housing unit status or clarify discrepancies.

A quality control operation of the Final Housing Unit Followup called the Final Housing Unit Followup Quality Control of 15.9 percent of the Final Housing Unit Followup workload will be conducted to ensure that the work performed is of acceptable quality. If a block cluster fails the quality check, the entire block cluster will be reworked. The estimate of reworked housing units is 40 percent of the Final Housing Unit Followup workload.

There will be two Final Housing Unit Followup forms, D-1340 and D-1340PR. The D-1340 is the English language version of the Final Housing Unit Followup form and will be used to collect data and to conduct Quality Control for addresses in CCM stateside sample areas. The D-1340PR is the Spanish language version of the Final Housing Unit Followup form, which will be used for the same purpose in the CCM sample areas of Puerto Rico.

II. Method of Collection

The CCM Final Housing Unit Followup and Final Housing Unit Followup Quality Control operations will be conducted through personal visits using a paper questionnaire. The CCM Final Housing Unit Followup and Final Housing Unit Followup Quality Control operations will occur starting May 5, 2011 through June 18, 2011.

Definition of Terms

Components of Census Coverage—The four components of census coverage are census omissions (missed persons or housing units), erroneous enumerations (persons or housing units), correct enumerations, and whole-person imputations (census person enumerations on which we did not collect sufficient information). Examples of erroneous enumerations are persons or housing units enumerated in the census that should not have been enumerated at all, persons or housing units enumerated in an incorrect location, and persons or housing units enumerated more than once (duplicates).

Net Coverage Error—Net Coverage Error is the difference between the estimate of the true population count and the actual census count. A positive net error indicates an undercount, while a negative net error indicates an overcount.

For more information about the Census 2010 Coverage Measurement Program, please visit the following page of the Census Bureau's Web site: http://www.census.gov/cac/www/pdf/coverage-measurement-program.pdf

III. Data

OMB Control Number: None.

Form Number: D-1340, D-1340 (PR).

Type of Review: Regular submission.

Affected Public: Individuals or Households.

Estimated Number of Respondents: 24,496 housing units for Final Housing Unit Followup and 13,693 housing units for Final Housing Unit Followup Quality Control.

Estimated Time per Response: 3 minutes.

Estimated Total Annual Burden Hours: 1,910 hours.

Estimated Total Annual Cost: No cost to the respondents except for their time to respond.

Respondent's Obligation: Mandatory.

Legal Authority: Title 13, U.S. Code, Sections 141, 193, and 221.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 26, 2010.
Glenna Mickelson,
Management Analyst, Office of the Chief Information Officer.

[FR Doc. 2010-7277 Filed 3-31-10; 8:45 am]

BILLING CODE 3510-07-P